DEPARTMENT OF AGRICULTURE

Natural Resources Conservation Service

Hubbard and Murphree Creeks Watershed, Tallahatchie County, Mississippi

AGENCY: Natural Resources Conservation Service, USDA.

ACTION: Notice of a finding of no significant impact.

SUMMARY: Pursuant to section 102(2)(C) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for Hubbard and Murphree Creeks Watershed, Tallahatchie County, Mississippi.

FOR FURTHER INFORMATION CONTACT: Homer L. Wilkes, State Conservationist, Natural Resources Conservation Service, Suite 1321, A.H. McCoy Federal Building, 100 West Capitol Street, Jackson, Mississippi 39269, Telephone 601-965-5205.

SUPPLEMENTARY INFORMATION: The environmental assessment of this federal assisted action indicates that the project will not cause significant local, regional, or national impacts on the environment. As a result of these findings, Homer L. Wilkes, State Conservationist has determined that the preparation and review of an environmental impact statement are not needed for this project.

Hubbard and Murphree Creeks Watershed, Tallahatchie County, Mississippi Notice of a Finding of No Significant Impact

The project concerns a watershed plan to provide supplemental flood protection and reduce threat to loss of life from sudden dam failure to the residents of the Hubbard and Murphree Creeks Watershed and others. The planned works of improvement consists of rehabilitating three floodwater retarding structures (FWRS) Y-17-72, Y-17-73, and Y-17-74.

The Notice of a Finding of No Significant Impact (FONSI) has been forwarded to the Environmental Protection Agency and to various Federal, State, and local agencies and interested parties. A limited number of copies of the FONSI are available to fill single copy requests at the above address. Basic data developed during the environmental assessment are on file and may be reviewed by contacting Homer L. Wilkes. No administrative action on implementation of the proposal will be taken until 30 days after the date of this publication in the Federal Register.

Dated: May 29, 2001.
Homer L. Wilkes,
State Conservationist.

“(This activity is listed in the Catalog of Federal Domestic Assistance under No. 10.904—Watershed Protection and Flood Prevention and is subject to the provisions of Executive Order 12372 which requires intergovernmental consultation with State and local officials.)”

[FR Doc. 01-14920 Filed 6-12-01; 8:45 am]

BILLING CODE 3410-16-U